DEPARTMENT OF VETERANS AFFAIRS

Advisory Committee on Former Prisoners of War, Notice of Meeting

The Department of Veterans Affairs (VA) gives notice under Public Law 92-463 (Federal Advisory Committee Act) that the Advisory Committee on Former Prisoners of War (FPOW) has scheduled a meeting on September 10-12, 2012, at the Washington DC Veterans Affairs Medical Center, 50 Irving Street NW., Washington, DC. The meeting will be held from 9 a.m. to 4 p.m. on September 10 and 11 and from 9 a.m. to 1 p.m. on September 12.

The purpose of the Committee is to advise the Secretary of Veterans Affairs on the administration of benefits under Title 38, United States Code, for Veterans who are former prisoners of war, and to make recommendations on the needs of such Veterans for compensation, health care, and rehabilitation.

In the morning of September 10, the Committee will convene an open session to hear from its Chairman and receive briefings by the Director of the Robert E. Mitchell Center and the Service Center Manager of the Baltimore VA Regional Office. In the afternoon, the Committee will convene a closed session to in order to protect patient privacy as the Committee tours the VA Medical Center. Closing portion of this session is in accordance with 5 U.S.C. 552b(c)(6). On September 11, the Committee will convene an open session to receive briefings from its Chairman, the Employee Education System, and the Benefits Assistance Service. The Committee will also host a public forum and panel to gain information on FPOW issues and recommendations for health benefits and claims processing. In the afternoon, the Committee will receive briefings by the Veterans Health Benefits staff on the Mental Health Disaster Response and Post Deployment Activities. On September 12, the Committee will meet in open session to discuss its 2011/2012 recommendations and draft its report.

Individuals who wish to speak at the public forum are invited to submit a 1 to 2 page summary of their comments at the end of the meeting for inclusion in the official meeting record. Members of the public may also submit written statements for the Committee's review to Ms. Pam Burd, Program Analyst, Compensation Service (212C), Department of Veterans Affairs, 810 Vermont Avenue NW., Washington, DC 20420, or by email at pamela.burd@va.gov. Any member of the public seeking additional information should contact Ms. Burd at (202) 461-9149.

Dated: August 23, 2012.
By Direction of the Secretary.
Vivian Drake,
Committee Management Officer.

[FR Doc. 2012-21189 Filed 8-27-12; 8:45 am]

BILLING CODE P